DEPARTMENT OF ENERGY

Federal Energy Regulatory Commission

Combined Notice of Filings #1

Take notice that the Commission received the following electric corporate filings:

Docket Numbers: EC17-61-000.

Applicants: Michigan Electric Transmission Company, LLC.

Description: Application Pursuant to Section 203 of the Federal Power Act of Michigan Electric Transmission Company, LLC.

Filed Date: 1/9/17.

Accession Number: 20170109-5366.

Comments Due: 5 p.m. ET 1/30/17.

Take notice that the Commission received the following electric rate filings:

Docket Numbers: ER10-3124-004; ER10-3129-004; ER10-3130-004; ER10-3132-004; ER10-3134-004; ER10-3137-004; ER13-460-001.

Applicants: Noble Altona Windpark, LLC, Noble Bliss Windpark, LLC, Noble Clinton Windpark I, LLC, Noble Chateaugay Windpark, LLC, Noble Ellenburg Windpark, LLC, Noble Great Plains Windpark, LLC, Noble Wethersfield Windpark, LLC.

Description: Notice of Non-Material Change in Status of the Noble Sellers.

Filed Date: 1/9/17.

Accession Number: 20170109-5370.

Comments Due: 5 p.m. ET 1/30/17.

Docket Numbers: ER17-761-000.

Applicants: ITC Midwest LLC.

Description: § 205(d) Rate Filing: Filing of a Joint Use Pole Agreement with Northern States to be effective 3/10/2017.

Filed Date: 1/9/17.

Accession Number: 20170109-5320.

Comments Due: 5 p.m. ET 1/30/17.

Docket Numbers: ER17-762-000.

Applicants: Southwest Power Pool, Inc.

Description: § 205(d) Rate Filing: 3293 Thunderhead Wind Energy GIA to be effective 12/21/2016.

Filed Date: 1/10/17.

Accession Number: 20170110-5029.

Comments Due: 5 p.m. ET 1/31/17.

Docket Numbers: ER17-763-000.

Applicants: Wabash Valley Power Association, Inc.

Description: § 205(d) Rate Filing: Formulary Rate Tariff Depreciation Rates to be effective 1/10/2017.

Filed Date: 1/10/17.

Accession Number: 20170110-5039.

Comments Due: 5 p.m. ET 1/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2017.
Kimberly D. Bose,
Secretary.

[FR Doc. 2017-00925 Filed 1-17-17; 8:45 am]

BILLING CODE 6717-01-P